DEPARTMENT OF HOUSING AND URBAN DEVELOPMENT

[Docket No. FR-4912-N-13]

Notice of Intent To Prepare an Environmental Impact Statement and a Scoping Meeting for the Ashburton Avenue Urban Renewal Plan and Master Plan, Yonkers, Westchester County, NY

AGENCY: Office of the Assistant Secretary for Community Planning and Development, HUD.

ACTION: Notice of Intent.

SUMMARY: HUD gives notice to the public, agencies, and Indian tribes that the City of Yonkers, NY, intends to prepare an Environmental Impact Statement (EIS) for the preparation of an Urban Renewal Area and Master Plan for approximately 44-acres in downtown Yonkers, Westchester County, NY. The EIS will cover the redevelopment of the Mulford Gardens public housing complex and eight sites on nearby blocks financed, in part, by a HOPE VI grant awarded to the Municipal Housing Authority for the City of Yonkers. The City of Yonkers, NY, acting as the lead agency will prepare the EIS acting under its authority as the responsible entity for compliance with the National Environmental Policy Act (NEPA) and in accordance with 42 U.S.C. 1437x and HUD regulations at 24 CFR 58.4, and under its authority as lead agency in accordance with the New York State Environmental Quality Review Act (SEQRA).

The EIS will be a joint NEPA and SEQRA document. The EIS will satisfy requirements of SEQRA 6NYCRR part 617, which requires that all State and local government agencies consider the environmental consequences of projects over which they have discretionary authority before acting on those projects. Because Federal HOPE VI funds would be used, the proposed action is also subject to NEPA. The EIS and NEPA process will also be used to address historic preservation and cultural resource issues under section 106 of the National Historic Preservation Act, 16 U.S.C. 470f. This notice is given in accordance with the Council on Environmental Quality regulations at 40 CFR parts 1500-1508. All interested Federal, State, and local agencies, Indian tribes, groups, and the public are invited to comment on the scope of the EIS. Federal agencies with jurisdiction by law, special expertise, or other special interest should report their willingness to participate in the EIS process as a Cooperating Agency.

FOR FURTHER INFORMATION CONTACT: Inquiries concerning the Proposed Action and this notice should be made to the Lead Agency care of Steven Whetstone, Commissioner of Planning and Development, City of Yonkers, 87 Nepperhan Avenue, 3rd Floor, Yonkers NY 10701-3874, (914) 377-6565 (steve.whetstone@cityofyonkers.com).

SUPPLEMENTARY INFORMATION: The Proposed Action consists of two parts: (1) An Urban Renewal Plan and Master Plan for the entire Ashburton Avenue Urban Renewal Area (URA) and (2) the redevelopment of Mulford Gardens and related development sites located within the URA, financed, in part, by a HOPE VI grant to the Municipal Housing Authority for the City of Yonkers.

The URA is located on the west side of Yonkers, north of the downtown and west of the Saw Mill River Parkway. The area encompasses approximately 44 acres with approximately 600 parcels along and near Ashburton Avenue, between Warburton Avenue and Yonkers Avenue.

The area was selected by the City as a potential URA to tie into the redevelopment of Mulford Gardens, the City's oldest public housing complex, which is located on 12 acres within the boundaries of the proposed URA. Due to its age and substandard housing condition of its 552 units, Mulford Gardens is slated for demolition. The City's Municipal Housing Authority was awarded a HOPE VI grant to demolish and reconstruct housing on and around the existing Mulford Gardens site. Proposed HOPE VI residential development will occur on the existing 12 acre Mulford Gardens site, with additional residential, community facility and retail development to occur on eight surrounding sites within the Ashburton Avenue URA.

The Urban Renewal Plan will be used as a revitalization strategy to improve the residential character of the area, expand business opportunities and improve the transportation network. The Master Plan for the URA will include: the provision of a range of housing opportunities; mixed use development along Ashburton Avenue; and transportation improvements, including street widenings along Ashburton Avenue, to improve east-west access between the Saw Mill River Parkway and the Downtown Waterfront District, allow on-street parking, reduce traffic congestion and allow for an upgraded sidewalk and streetscape plan.

Alternatives: The alternatives to be considered by the Lead Agency will include a no action alternative and may include: alternatives with selected roadway improvements that would not require widening Ashburton Avenue; an alternative that assumes the Ashburton Avenue parking garage is not demolished; residential development alternatives including different building types and/or densities. Alternatives to be examined in the EIS will be finalized after the scoping meeting.

Need for the EIS: Insofar as the Proposed Action includes a residential component, it is subject to the Yonkers Affordable Housing Ordinance, Article XV of the Code of the City of Yonkers. The Decision of the United States District Court in D'Agnillo v. United States Department of Housing and Urban Development, 1999 WL 350870 (S.D.N.Y. 1999), requires environmental review under NEPA of all housing projects which are subject to the Affordable Housing Ordinance. The City of Yonkers has determined that the Proposed Action constitutes an action which has the potential to affect the quality of the human environment and therefore requires the preparation of an EIS in accordance with NEPA.

Scoping: A public EIS scoping meeting will be held at 6 p.m. on Thursday, May 12, 2005, at the Riverfront Library, 2nd Floor Community Room, 1 Larkin Center, Yonkers, NY 10701. The public is invited to attend and identify the issues that should be addressed in the EIS. The public will have the opportunity to comment on the scope of the EIS orally and in writing. A written comment period during which additional written comments will be accepted by the Lead Agency will be extended through and including June 13, 2005. A scoping document that explains in greater detail the Proposed Action and alternatives identified at this time will be sent to the known interested parties in advance of the public scoping meeting. For a copy of the draft Scoping Document contact: Steven Whetstone, Commissioner of Planning and Development, City of Yonkers, 87 Nepperhan Avenue, 3rd Floor, Yonkers NY 10701-3874. Telephone: (914) 377-6565. A copy of the draft scoping document can also be viewed at www.cityofyonkers.com.

Questions may be directed to the individuals named in this notice under the heading FOR FURTHER INFORMATION CONTACT.

Dated: April 7, 2005.
Nelson R. Bregón,
General Deputy Assistant Secretary for Community Planning and Development.

[FR Doc. E5-1809 Filed 4-15-05; 8:45 am]

BILLING CODE 4210-27-P